DEPARTMENT OF ENERGY

Office of Energy Efficiency and Renewable Energy

Energy Efficiency Building Technology Application Centers

AGENCY: Office of Energy Efficiency and Renewable Energy, Department of Energy.

ACTION: Program notice.

SUMMARY: The National Energy Technology Laboratory, on behalf of the Office of Energy Efficiency and Renewable Energy's Building Technologies Program, intends to issue a Funding Opportunity Announcement (FOA) to select and fund Energy-Efficient Building Technology Application Centers. This FOA is expected to be issued on or about May 15, 2007. The goal of this funding opportunity is to establish geographically and climatically diverse Energy-Efficient Building Technology Application Centers. This goal supports the EERE Strategic Plan to increase the energy efficiency of the Nation's buildings and the Building Technology Program's Technology Validation and Market Introduction activity goal of accelerating the widespread market adoption of energy-efficient building technologies and practices. It also encourages demonstration and commercial application of advanced energy methods and technologies through education and outreach to building and industry professionals, and other individuals and organizations with an interest in efficient energy use.

FOR FURTHER INFORMATION CONTACT: James Rannels, U.S. Department of Energy, Office of Energy Efficiency and Renewable Energy, Program Office EE-2J, 1000 Independence Avenue, SW., Washington, DC 20585-0121, (202) 586-8070, E-mail: James.Rannels@ee.doe.gov.

C. Edward Christy, National Energy Technology Laboratory, 3610 Collins Ferry Road, M/S E-02, Morgantown, WV 26507, (304) 285-4604, E-mail: Eddie.Christy@netl.doe.gov.

Dated: May 2, 2007.
C. Edward Christy,
Director, Building and Industrial Technologies Division.

[FR Doc. E7-8788 Filed 5-7-07; 8:45 am]

BILLING CODE 6450-01-P